DEPARTMENT OF HEALTH AND HUMAN SERVICES

Administration for Community Living

Agency Information Collection Activities; Proposed Collection; Comment Request; Extension of Certification of Maintenance of Effort on Help America Vote Act, Payments for Protection and Advocacy Systems (P&A Voting Access Narrative Annual Report)

AGENCY: Administration on Intellectual and Developmental Disabilities, Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the Help America Vote Act (HAVA), Public Law 107-252, title II, subtitle D, section 291, Payments for Protection and Advocacy Systems (P&As Narrative Annual Report).

DATES: Submit written or electronic comments on the collection of information by June 1, 2015.

ADDRESSES: Submit electronic comments on the collection of information to: melvenia.wright@acl.hhs.gov.

Submit written comments on the collection of information to Administration for Community Living, 1 Massachusetts Avenue NW., Room 4716, Washington, DC 20001, attention Melvenia Wright.

FOR FURTHER INFORMATION CONTACT: Melvenia Wright, Program Specialist, Administration for Community Living, Washington, DC 20001. Telephone: (202) 357-3486; email melvenia.wright@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The Protection and Advocacy Voting Access Annual Narrative Report from the Protection and Advocacy Systems is required by federal statute and regulation, the Help America Vote Act (HAVA), Public Law 107-252, title II, subtitle D, section 291, Payments for Protection and Advocacy to Assure Access for Individuals with Disabilities (42 U.S.C. 15461). The report is provided in writing to the Administration for Community Living, Administration on Intellectual and Developmental Disabilities (AIDD). Each eligible Protection and Advocacy System (P&As) must prepare and submit an annual report at the end of every fiscal year by the 31st of December. The report addresses the activities conducted with the funds provided during the year. The information collected from the annual report will be aggregated into an annual profile of how the P&As have utilized the funds and review the P&As activities carried out for each of the seven mandated area. These areas include full participation in the electoral process; education, training and assistance; advocacy and education around HAVA implementation efforts; training and education of election officials, poll workers and election volunteers regarding the rights of voters with disabilities and best practices; assistance in filing complaints; assistance to State and other governmental entities regarding the physical accessibility of polling places; and obtaining training and technical assistance on voting issues. The PAVA annual narrative report will also provide an overview of the goals and accomplishments for each P&A as well as permit the Administration on Intellectual and Developmental Disabilities (AIDD) to track voting progress to monitor grant activities and create the bi-annual report to Congress.

ACL estimates the burden of this collection of information as follows: 55 Protection and Advocacy Systems (P&A) respond annually which should be an average burden of 20 hours per State per year or a total of 1,100 hours for all states annually.

Dated: March 25, 2015.
Kathy Greenlee,
Administrator and Assistant Secretary for Aging.

[FR Doc. 2015-07313 Filed 3-30-15; 8:45 am]

BILLING CODE 4154-01-P